DEPARTMENT OF EDUCATION

Institute of Education Sciences

[CFDA No. 84.305C]

Notice Inviting Applications for Grants To Support Predoctoral Interdisciplinary Research Training in the Education Sciences for Fiscal Year (FY) 2005

SUMMARY: The Director of the Institute of Education Sciences (Institute) announces a FY 2005 competition for grants to support Predoctoral Interdisciplinary Research Training in the Education Sciences. The Director takes this action under the Education Sciences Reform Act of 2002 (Act), Title I of Public Law 107-279. The intent of these grants is to: Support the development of innovative interdisciplinary training programs for doctoral students interested in conducting applied education research, and to establish a network of training programs that collectively produce a cadre of education researchers willing and able to conduct a new generation of methodologically rigorous and educationally relevant scientific research that will provide solutions to pressing problems and challenges facing American education.

SUPPLEMENTARY INFORMATION: Mission of Institute: A central purpose of the Institute is to provide parents, educators, students, researchers, policymakers, and the general public with reliable information about education practices that support learning and improve academic achievement and access to education opportunities for all students. In carrying out its mission, the Institute provides support for programs of research in areas of demonstrated national need.

Eligible Applicants: Applicants that have the ability and capacity to conduct scientifically valid research are eligible to apply. Eligible applicants include, but are not limited to, non-profit and for-profit organizations and public and private agencies and institutions, such as colleges and universities.

Request for Applications and Other Information: Information regarding program and application requirements for this competition is contained in the applicable Request for Applications package (RFA), which will be available on August 19 at the following Web site: http://www.ed.gov/programs/edresearch/applicant.html. Interested potential applicants should periodically check the Institute's Web site.

Information regarding selection criteria and review procedures will also be posted at this Web site.

Letter of Intent: A letter indicating a potential applicant's intent to submit an application is optional but encouraged. The letter of intent must be submitted electronically by September 17, 2004, using the instructions provided at the following web site: http://ies.constellagroup.com/. Receipt of the letter of intent will be acknowledged by e-mail.

Applications Available: August 19, 2004.

Deadline for Transmittal of Applications: 8 p.m. Eastern

Time, November 18, 2004.

Estimated Range of Awards: $500,000 to $1,000,000 per year.

Project Period: Up to 5 years.

Fiscal Information: Although Congress has not enacted a final appropriation for FY 2005, the Institute is inviting applications for this competition now so that it may be prepared to make awards following final action on the Department's appropriations bill. The President's FY 2005 Budget for the Institute includes sufficient funding for this competition. The actual award of grants is pending the availability of funds. The number of awards made under this competition will depend upon the quality of the applications received. The size of the awards will depend upon the scope of the projects proposed.

Note: The Department is not bound by any estimates in this notice.

Applicable Regulations: The Education Department General Administrative Regulations (EDGAR) in 34 CFR parts 74, 77, 80, 81, 82, 84, 85, 86 (part 86 applies only to institutions of higher education), 97, 98, and 99. In addition 34 CFR part 75 is applicable, except for the provisions in 34 CFR 75.100, 75.101(b), 75.102, 75.103, 75.105, 75.109(a), 75.200, 75.201, 75.209, 75.210, 75.211, 75.217, 75.219, 75.220, 75.221, 75.222, and 75.230.

Performance Measures: To evaluate the overall success of its education research program, the Institute annually assesses the quality and relevance of newly funded research projects, as well as the quality of research publications that result from its funded research projects. Two indicators address the quality of new projects. First, an external panel of eminent senior scientists reviews the quality of a randomly selected sample of newly funded research applications, and the percentage of new projects that are deemed to be of high quality is determined. Second, because much of the Institute's work focuses on questions of effectiveness, newly funded applications are evaluated to identify those that address causal questions and then to determine what percentage of those projects use randomized field trials to answer the causal questions. To evaluate the relevance of newly funded research projects, a panel of experienced education practitioners and administrators reviews descriptions of a randomly selected sample of newly funded projects and rates the degree to which the projects are relevant to educational practice.

Two indicators address the quality of new research publications, both print and web-based, which are the products of funded research projects. First, an external panel of eminent scientists reviews the quality of a randomly selected sample of new publications, and the percentage of new publications that are deemed to be of high quality is determined. Second, publications that address causal questions are identified, and are then reviewed to determine the percentage that employ randomized experimental designs. As funded research projects are completed, the Institute will subject the final reports to similar reviews.

To evaluate impact, the Institute surveys a random sample of K-16 policymakers and administrators once every 3 years to determine the percentage who report routinely considering evidence of effectiveness before adopting educational products and approaches.

Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for the FY 2005 competitions be submitted electronically to the following Web site: http://ies.constellagroup.com. Information on the software to be used in submitting applications will be available at the same Web site.

FOR FURTHER INFORMATION CONTACT: James Griffin, U.S. Department of Education, Institute of Education Sciences, 555 New Jersey Avenue, NW., room 611A, Washington, DC 20208. Telephone: (202) 219-2280 or by e-mail: James.Griffin@ed.gov

The date on which applications will be available, the deadline for transmittal of applications, the estimated range of awards, and the project period are also listed in the RFA for this competition that will be posted at: http://www.ed.gov/programs/edresearch/applicant.html.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT. Individuals with disabilities may obtain a copy of the RFA in an alternative format by contacting that person.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 9501 et seq. (the “Education Sciences Reform Act of 2002”, Title I of Public Law 107-279, November 5, 2002).

Dated: July 17, 2004.
Grover J. Whitehurst,
Director, Institute of Education Sciences.

[FR Doc. 04-19176 Filed 8-19-04; 8:45 am]

BILLING CODE 4000-01-U